DEPARTMENT OF THE INTERIOR

Bureau of Land Management

[CO-923; COC-06785]

Public Land Order No. 7639; Partial Revocation of Public Land Order No. 1176; CO

AGENCY: Bureau of Land Management, Interior.

ACTION: Public land order.

SUMMARY: This order partially revokes Public Land Order No. 1176 insofar as it affects 99.35 acres of National Forest System land withdrawn for the Forest Service as an administrative site. This action will open the land to such forms of disposition as may by law be authorized on National Forest System land and to mining. The land has been and remains open to mineral leasing.

EFFECTIVE DATE: July 18, 2005.

FOR FURTHER INFORMATION CONTACT: Doris E. Chelius, BLM Colorado State Office, 2850 Youngfield Street, Lakewood, Colorado, 80215-7093, (303) 239-3706.

Order

By virtue of the authority vested in the Secretary of the Interior by Section 204 of the Federal Land Policy and Management Act of 1976, 43 U.S.C. 1714 (2000), it is ordered as follows:

1. Public Land Order No. 1176, which withdrew National Forest System land for recreation and administrative sites and other public purposes, is hereby revoked insofar as it affects the following described land in the State of Colorado:

Manti-LaSal National Forest, New Mexico Principal Meridian

T. 48 N., R. 20 W.,

Sec. 3, lots 3 and 4.

The area described contains 99.35 acres in Montrose County.

2. At 9 a.m. on July 18, 2005, the land will be opened to such forms of disposition as may by law be authorized on National Forest System land, including location and entry under the United States mining laws, subject to valid existing rights, the provisions of existing withdrawals, other segregations of record, and the requirements of applicable law. Appropriation of any of the land described in this order under the general mining laws prior to the date and time of restoration is unauthorized. Any such attempted appropriation, including attempted adverse possession under 30 U.S.C 38 (2000), shall vest no rights against the United States. Acts required to establish a location and to initiate a right of possession are governed by State law where not in conflict with Federal law. The Bureau of Land Management will not intervene in disputes between rival locators over possessory rights since Congress has provided for such determinations in local courts.

Dated: May 31, 2005.
Rebecca W. Watson,
Assistant Secretary—Land and Minerals Management.

[FR Doc. 05-11856 Filed 6-15-05; 8:45 am]

BILLING CODE 3410-11-P